ENVIRONMENTAL PROTECTION AGENCY

40 CFR Part 52

[EPA-R09-OAR-2024-0370; FRL-12152-01-R9]

Approval and Promulgation of Implementation Plans; California; California Mobile Source Regulations

AGENCY: Environmental Protection Agency (EPA).

ACTION: Proposed rule.

SUMMARY: The Environmental Protection Agency (EPA) is proposing to approve a revision to the California State Implementation Plan (SIP) consisting of California regulations and related test procedures that were adopted as part of California's Advanced Clean Cars I program and that establish standards and other requirements relating to the control of emissions of greenhouse gases from new passenger cars, light-duty trucks, and medium-duty vehicles. The standards and other requirements relate to 2017 and subsequent model-year passenger cars, light-duty trucks, and medium-duty vehicles. The EPA is proposing to approve the SIP revision because the regulations and related test procedures meet the applicable requirements of the Clean Air Act. If finalized, approval of the regulations and related test procedures as part of the California SIP will make them federally enforceable.

DATES: Comments must be received on or before November 12, 2024.

ADDRESSES: Submit your comments, identified by Docket ID No. EPA-R09-OAR-2024-0370 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Jeffrey Buss, EPA Region IX, 75 Hawthorne St., San Francisco, CA 94105. By phone: (415) 947-4152 or by email at buss.jeffrey@epa.gov.

SUPPLEMENTARY INFORMATION: Throughout this document, “we,” “us” and “our” refer to the EPA.

Table of Contents

I. Background

II. The State's Submission

A. What regulations did the State submit?

B. Would these regulations be new to the SIP?

C. What is the purpose of the submitted regulations?

III. EPA's Evaluation and Proposed Action

A. How is the EPA evaluating the regulations?

B. Do the State regulations meet CAA SIP evaluation criteria?

C. Proposed Action and Public Comment.

IV. Incorporation by Reference

V. Statutory and Executive Order Reviews

I. Background

Under the Clean Air Act (CAA or “Act”), the EPA establishes national ambient air quality standards (NAAQS) to protect public health and welfare. The EPA has established NAAQS for a number of pervasive air pollutants including ozone, carbon monoxide, nitrogen dioxide, sulfur dioxide, lead and particulate matter, which are referred to as “criteria air pollutants.” Under section 110(a)(1) of the CAA, states must submit plans that provide for the implementation, maintenance, and enforcement of the NAAQS within each state. Such plans are referred to as State Implementation Plans (SIPs) and revisions to those plans are referred to as SIP revisions. Section 110(a)(2) of the CAA sets forth the content requirements for SIPs. Among the various requirements, SIPs must include enforceable emission limitations and other control measures, means, or techniques that may be necessary or appropriate to meet the applicable requirements of the CAA. See CAA section 110(a)(2)(A).

Emissions sources contributing to ambient air pollution levels can be divided into two basic categories: Stationary emissions sources and mobile emissions sources. With certain exceptions, such as the EPA's authorities under CAA sections 111 and 112, the CAA assigns stationary source regulation to the states through title I of the Act and assigns mobile source regulation to the EPA through title II of the Act. In so doing, the CAA preempts various types of state regulation of mobile sources as set forth in section 209(a) (preemption of state emissions standards for new motor vehicles and engines) and section 209(e) (preemption of state emissions standards for new and non-new nonroad vehicles and engines).¹

¹ EPA regulations refer to “nonroad” vehicles and engines whereas California regulations refer to “off-road” vehicles and engines. These terms refer to the same types of vehicles and engines.

Under California law, the California Air Resources Board (CARB) is the State agency responsible for adopting and submitting the California SIP and SIP revisions to the EPA for approval. Over the years, CARB has submitted, and the EPA has approved, many county and regional air district rules regulating stationary source emissions as part of the California SIP. See generally 40 CFR 52.220(c).

With respect to mobile sources that are specifically preempted under the CAA, CARB must request a waiver (for motor vehicles and engines) or authorization (for nonroad engines and vehicles) in order to enforce standards relating to the control of emissions and accompanying enforcement procedures for these types of mobile sources. See CAA sections 209(b) (new motor vehicles) and 209(e)(2) (most categories of new and non-new nonroad engines and vehicle vehicles). Over the years, CARB has submitted many requests for waiver or authorization of its standards and other requirements relating to the control of emissions from new motor vehicles and engines and new and non-new nonroad vehicles and engines, and the EPA has granted many such requests.²

² For example, the EPA has granted waivers for CARB's Advanced Clean Cars I program (this program includes California's Low Emission Vehicle (LEV III) criteria and greenhouse gas pollutant standards for light- and medium-duty vehicles, and a ZEV sales mandate). See 78 FR 2112 (January 9, 2013) (Advanced Clean Cars program); 84 FR 51310 (September 27, 2019) (partial withdrawal of 2013 waiver for Advanced Clean Cars program); 87 FR 14332 (March 14, 2022) (reinstatement of 2013 waiver for Advanced Clean Cars program).

Once the EPA grants the request for waiver or authorization, CARB may enforce the corresponding mobile source regulations. In recent years, CARB has submitted as revisions to the California SIP, and the EPA has approved, various CARB mobile source regulations that establish standards and other requirements for the control of emissions from new motor vehicles and engines and new and non-new nonroad vehicles and engines for which the EPA has issued waivers or authorizations.³

³ 81 FR 39424 (June 16, 2016), 82 FR 14446 (March 21, 2017), and 83 FR 23232 (May 18, 2018). The Advanced Clean Cars I program includes LEV III criteria pollutant and greenhouse gas emissions standards for light- and medium-duty vehicles and a Zero-Emission Vehicle (ZEV) sales mandate. The EPA's June 16, 2016 SIP approval included the LEV III criteria pollutant emissions standards, and the ZEV sales mandate, but not the LEV III greenhouse gas emissions standards. We are proposing approval of the LEV III greenhouse gas emissions standards in this document.

CARB and the air districts rely on these county, regional, and State stationary and mobile source regulations to meet various CAA requirements and include the corresponding emissions reductions of criteria air pollutants or their precursors in the various regional air quality plans developed to attain and maintain the NAAQS. Precursors for criteria air pollutants include oxides of nitrogen (NOX) and volatile organic compounds (VOCs) for ozone and particulate matter (PM). The EPA generally allows California to take credit for the corresponding emissions reductions relied upon in the various regional air quality plans because, among other reasons, the regulations are approved as part of the SIP and are thereby federally enforceable as required under CAA section 110(a)(2)(A).

One of the SIP revisions that included CARB mobile source regulations for which the EPA has granted waivers or authorizations under CAA section 209 was a SIP revision that CARB submitted to the EPA on August 14, 2015. CARB's August 14, 2015 SIP revision submission included, among other regulations, a set of state regulations referred to as the Advanced Clean Cars (herein, “ACC I”) program, which was adopted by CARB in 2012.⁴ The ACC I program, which includes CARB's Low-Emission Vehicle III (LEV III) and zero-emission vehicle (ZEV) regulations, provides a single coordinated package of requirements for controlling criteria air pollutants or their precursors and greenhouse gas (GHG) emissions for Model Year (MY) 2015 through 2025 passenger cars, light-duty trucks, and medium-duty passenger vehicles.⁵

⁴ The ACC program adopted by CARB in 2012 is now referred to as “ACC I” to distinguish it from CARB's newly adopted Advanced Clean Cars II (“ACC II”) program.

⁵ CARB, Staff Report: Initial Statement of Reasons for Proposed Rulemaking, Public Hearing to Consider the “LEV III” Amendments to the California Greenhouse Gas and Criteria Pollutant Exhaust and Evaporative Emission Standards and Test Procedures and to the On-Board Diagnostic System Requirements for Passenger Cars, Light-Duty Trucks, and Medium-Duty Vehicles, and to the Evaporative Emission Requirements for Heavy-Duty Vehicles, Release Date: December 7, 2011, page ES-3. See, also 78 FR 2112 (January 9, 2013).

Through CARB Resolution 15-40, the CARB Board approved the ACC I program for inclusion in the California SIP along with many other CARB measures for which the EPA had issued waivers or authorizations, for which EPA waivers/authorizations were pending, and for which CARB had not yet submitted waiver/authorization requests, and it authorized the CARB Executive Officer to determine which of the measures were appropriate for submission to the EPA as part of the SIP.⁶ Under the authority granted in Resolution 15-40, the CARB Executive Officer included the ACC I program along with many other CARB regulations in the August 14, 2015 SIP submission for which the EPA had issued waivers or authorizations, but he did not include the GHG-related provisions of the ACC I program. In 2016, the EPA finalized approval of CARB's August 14, 2015 SIP submission as submitted by CARB into the State's SIP.⁷

⁶ CARB, Resolution 15-40, July 23, 2015. Resolution 15-40 includes Attachment A (“Waiver/Authorization List included as set forth in the Appendix A to the Staff Report, released June 19, 2015”), that identifies the regulations covered by the resolution.

⁷ 81 FR 39124 (June 16, 2016).

On December 7, 2016, the CARB Executive Officer submitted a second set of regulations that had been approved for submission as part of the SIP through CARB Resolution 15-40. The second set of regulations consists of regulations for which the EPA had granted waivers or authorizations between August 2015 and December 2016.⁸ On June 15, 2017, the CARB Executive Officer submitted a third set of regulations, those for which the EPA had granted waivers or authorizations between December 2016 and June 2017.⁹

⁸ The EPA approved the second set of regulations at 82 FR 14446 (March 21, 2017). The regulations included in the second set included regulations establishing emission standard requirements for Large Spark-Ignition (LSI) engines and Small Off-Road Equipment (SORE) and on-board diagnostic (OBD) system requirements for passenger cars, light-duty trucks, medium-duty vehicles and heavy-duty vehicles.

⁹ The EPA approved the third set of regulations at 83 FR 23232 (May 18, 2018). The regulations included in the third set included regulations establishing emission standard requirements for commercial harbor craft (CHC), in-use diesel-fueled transport refrigeration units (TRUs), on-road heavy-duty diesel engines and off-highway recreational vehicles.

On July 3, 2021, CARB submitted the GHG-related provisions from the ACC I program to the EPA as a SIP revision. As noted previously, these provisions had not been included in the August 14, 2015 SIP submission. In this action, the EPA is proposing approval of the regulations and related test procedures included in CARB's July 3, 2021 SIP submission.

II. The State's Submission

A. What regulations did the State submit?

On July 3, 2021, CARB submitted a SIP revision that included certain State mobile source GHG emission regulations that had not been included in CARB's August 14, 2015 SIP revision submission that had included other elements of its ACC I program.¹⁰ The SIP submission package consists of the regulations and related test procedures comprising the SIP revision itself as well as estimates of the emissions reductions associated with the GHG-related portions of the ACC I program and documentation of the public process conducted by CARB in approving the regulations (including related test procedures) as part of the California SIP.

¹⁰ CARB submitted the SIP revision electronically on July 3, 2021, as attachments to a letter dated July 2, 2021 from Richard W. Cory, Executive Officer, CARB, to Deborah Jordan, EPA Region IX Acting Regional Administrator.

Table 1 lists the specific sections of the California Code of Regulations (CCR) that are included in the July 3, 2021 SIP revision along with the corresponding date of CARB's Board hearing during which the regulations or amendments were adopted, the state rules' effective dates, and a description of the submitted regulations.

Table 1—Regulations Submitted for Approval on July 3, 2021
Section No. 13 CCR | Rule title | Relevant CARB hearing date(s) | State effective date(s) | Description of the submitted regulations
1961.1 | Greenhouse Gas Exhaust Emission Standards and Test Procedures—2009 through 2016 Model Passenger Cars, Light-Duty Trucks, and Medium-Duty Vehicles | 01/26/2012 | 08/07/2012 | Amends existing regulation to account for adoption of a new section 1961.3 and updates certain citations and references.
1961.2 | Exhaust Emission Standards and Test Procedures—2015 and Subsequent Model Passenger Cars, Light-Duty Trucks, and Medium-Duty Vehicles | 09/28/2018 | 12/12/2018 | Updates test procedure reference.
1961.3 | Greenhouse Gas Exhaust Emission Standards and Test Procedures—2017 and Subsequent Model Passenger Cars, Light-Duty Trucks, and Medium-Duty Passenger Vehicles | 01/26/2012, 09/28/2012 | 08/08/2012, 12/12/2018 | Establishes fleet average carbon dioxide emissions standards for MY 2017 and subsequent MY passenger cars, light-duty trucks, and medium-duty vehicles. Establishes nitrous oxide and methane exhaust emissions standards for the same classification of vehicles. Other subsections establish an optional compliance approach and calculation procedures for credits and identify test procedures, among other requirements.
1962.2(g)(6) | Use of ZEV Credits | 01/26/2012, 11/15/2012 | 08/07/2012, 12/31/2012 | Provides for the use of ZEV credits, and other types of credits, by manufacturers. Provides for “GHG-ZEV Over Compliance Credits” and establishes requirements relating to applications, credit generation and calculation, use, and reporting.

The regulations submitted by CARB and listed in Table 1 incorporate by reference documents that establish test procedures, among other requirements, that CARB submitted as part of the July 3, 2021 SIP revision. Table 2 lists the incorporated documents included in the July 3, 2021 SIP revision.

Table 2—Documents Incorporated by Reference in CARB Regulations Listed in Table 1 and Submitted as Part of the SIP Revision
California 2001 through 2014 Model Criteria Pollutant Exhaust Emission Standards and Test Procedures and 2009 through 2016 and Subsequent Model Greenhouse Gas Exhaust Emission Standards and Test Procedures for Passenger Cars, Light-Duty Trucks, and Medium-Duty Vehicles, as last amended March 22, 2012 (GHG-related provisions).
California 2015 and Subsequent Model Criteria Pollutant Exhaust Emission Standards and Test Procedures and 2017 and Subsequent Model Greenhouse Gas Exhaust Emission Standards and Test Procedures for Passenger Cars, Light-Duty Trucks, and Medium-Duty Vehicles, adopted March 22, 2012 (GHG-related provisions).
California 2015 and Subsequent Model Criteria Pollutant Exhaust Emission Standards and Test Procedures and 2017 and Subsequent Model Greenhouse Gas Exhaust Emission Standards and Test Procedures for Passenger Cars, Light-Duty Trucks, and Medium-Duty Vehicles, as amended September 28, 2018.
California Exhaust Emission Standards and Test Procedures for 2009 through 2017 Model Zero-Emission Vehicles and Hybrid Electric Vehicles, in the Passenger Car, Light-Duty Truck, and Medium-Duty Vehicle Classes, as last amended March 22, 2012 (GHG-related provisions).
California Exhaust Emission Standards and Test Procedures for 2018 and Subsequent Model Zero-Emission Vehicles and Hybrid Electric Vehicles, in the Passenger Car, Light-Duty Truck, and Medium-Duty Vehicle Classes, adopted March 22, 2012 (GHG-related provisions).
California 2015 and Subsequent Model Criteria Pollutant Exhaust Emission Standards and Test Procedures and 2017 and Subsequent Model Greenhouse Gas Exhaust Emission Standards and Test Procedures for Passenger Cars, Light-Duty Trucks, and Medium-Duty Vehicles, as last amended December 6, 2012 (GHG-related provisions).
California 2001 through 2014 Model Criteria Pollutant Exhaust Emission Standards and Test Procedures and 2009 through 2016 Model Greenhouse Gas Exhaust Emission standards and Test Procedures for Passenger Cars, Light-Duty Trucks, and Medium-Duty Vehicles, as last amended December 6, 2012 (GHG-related provisions).
California Exhaust Emission Standards and Test Procedures for 2018 and Subsequent Model Zero-Emission Vehicles and Hybrid Vehicles, in the Passenger Car, Light-Duty Truck, and Medium-Duty Vehicle Classes, adopted December 6, 2012 (GHG-related provisions).

B. Would these regulations be new to the SIP?

The regulations included in the July 3, 2021 SIP revision would be new to the California SIP with the exception of 13 CCR 1961.2 (“Exhaust Emission Standards and Test Procedures—2015 and Subsequent Model Passenger Cars, Light-Duty Trucks, and Medium-Duty Vehicles”). We approved a previous version of 13 CCR 1961.2 in 2016.¹¹ The amendment to 13 CCR 1961.2 that was submitted on July 3, 2021, updates the test procedures (incorporated by reference through 13 CCR 1961.2(d)) to conform to the 2018 amendments that CARB made to 13 CCR 1961.3.

¹¹ 81 FR 39424 (June 16, 2016).

C. What is the purpose of the submitted regulations?

California continues to experience some of the most severe and persistent air pollution problems in the country. Under the CAA, based on ambient data collected at numerous sites throughout the State, the EPA has designated areas within California as nonattainment areas for the ozone NAAQS and the particulate matter (PM) NAAQS, which includes both coarse and fine particulate (i.e., PM10 and PM2.5).¹² See, generally, 40 CFR 81.305. California also includes a number of areas that had been previously designated as nonattainment areas for the carbon monoxide NAAQS that the EPA has since redesignated as attainment areas because they have attained the standard; these areas are subject to an approved maintenance plan demonstrating how they will maintain the carbon monoxide standard into the future.

¹² PM10 refers to particles with an aerodynamic diameter less than or equal to a nominal 10 micrometers, and PM2.5 refers to particles with an aerodynamic diameter less than or equal to a nominal 2.5 micrometers.

Mobile source emissions constitute a significant portion of overall emissions of criteria air pollutants or their precursors, including carbon monoxide, VOCs, NOX, sulfur dioxide (SO2), and PM in the various air quality nonattainment or maintenance planning areas within California, and thus, the purpose of CARB's mobile source regulations is to reduce these emissions and thereby help reduce ambient concentrations of criteria pollutants or their precursors to the level needed to attain and maintain the NAAQS throughout California.¹³ As noted previously, NOX and VOCs are precursor emissions for both ozone and PM. At elevated levels, ozone and PM harm human health and the environment by contributing to premature mortality, aggravation of respiratory and cardiovascular disease, decreased lung function, visibility impairment, and damage to vegetation and ecosystems. The purpose of incorporating CARB's mobile source regulations into the SIP is to make them federally enforceable and to allow CARB and local air districts to rely on the related emissions reductions in preparing air quality plans needed to meet CAA SIP requirements.¹⁴

¹³ VOC and NOX are precursors responsible for the formation of ozone, and NOX and SO2 are precursors for PM2.5. SO2 belongs to a family of compounds referred to as sulfur oxides. PM2.5 precursors also include VOC and ammonia. See 40 CFR 51.1000.

¹⁴ See Committee for a Better Arvin v. EPA, 786 F.3d 1169 (9th Cir. 2015).

As noted previously, CARB's ACC I program, which includes CARB's LEV III criteria pollutant standards and the ZEV regulations (and LEV III GHG emission standards that commenced in the 2017 MY), provides a single coordinated package of requirements for controlling criteria air pollutants or their precursors and greenhouse gas (GHG) emissions from passenger cars, light-duty trucks, and medium-duty passenger vehicles. The EPA previously approved the LEV III criteria pollutant standards and ZEV regulations of the ACC I program as revisions to the California SIP.¹⁵ The GHG emission standards within the ACC I program achieve additional criteria pollutant emission reductions beyond those produced by the LEV III criteria pollutant standards and ZEV regulations within ACC I, and as part of the July 3, 2021 SIP submission package, CARB provided estimates of emissions reductions resulting from the GHG-related portions of the ACC I program.¹⁶

¹⁵ 81 FR 39424 (June 16, 2016).

¹⁶ CARB, Staff Report, Attachment B to Executive Order S-21-010 (“Emissions Benefits of California's Passenger Vehicle GHG Standards”), dated July 2, 2021.

In so doing, CARB evaluated motor vehicle emissions comprehensively by calculating both “downstream” emissions associated with operation of the motor vehicle itself, i.e., “Tank-to-Wheel” (TTW), such as tailpipe emissions and evaporative losses from a vehicle's fuel system, and “upstream” emissions associated with fuel extraction, processing and production, and distribution to refueling stations for consumers, i.e., “Well-to-Tank” (WTT) emissions.¹⁷ With respect to criteria air pollutants, CARB estimated reductions for the WTT portion of the emissions profile for, among other years, the three analysis years that are the most relevant from the standpoint of ozone NAAQS attainment planning for the South Coast Air Basin—i.e., 2023, 2031, and 2037.¹⁸ CARB estimates that the GHG-related portions of the ACC I program will result in a statewide decrease of upstream NOX emissions of 51 tons per year (tpy) in 2023, 297 tpy in 2031, and 404 tpy in 2037.¹⁹ The corresponding estimated statewide emissions reductions of PM2.5 will be 7 tpy in 2023, 52 tpy in 2031, and 72 tpy in 2037.²⁰

¹⁷ Id, page 2.

¹⁸ 2023, 2031 and 2037 correspond to the “Extreme” area “attainment year ozone season” for the 1997, 2008 and 2015 ozone NAAQS, respectively, in the South Coast Air Basin nonattainment area. See 40 CFR 51.900(g), 51.1100(h), and 51.1300(g) for the definition of “attainment year ozone season.”

¹⁹ CARB, Staff Report, Attachment B to Executive Order S-21-010 (“Emissions Benefits of California's Passenger Vehicle GHG Standards”), dated July 2, 2021, page 11, table 5.

²⁰ Id.

III. EPA's Evaluation and Proposed Action

A. How is the EPA evaluating the regulations?

The EPA has evaluated the submitted regulations and amendments listed in Table 1 against the applicable procedural and substantive requirements of the CAA for SIPs and SIP revisions and has concluded that they meet all the applicable requirements. Generally, SIPs must provide for the implementation, maintenance, and enforcement of the NAAQS (see CAA section 110(a)(1)); must include enforceable emission limitations and other control measures, means, or techniques, as well as schedules and timetables for compliance, as may be necessary to meet the requirements of the Act (see CAA section 110(a)(2)(A)); must provide necessary assurances that the state will have adequate personnel, funding, and authority under state law to carry out such SIPs (and is not prohibited by any provision of Federal or state law from carrying out such SIPs) (see CAA section 110(a)(2)(E)); must be adopted by a state after reasonable notice and public hearing (see CAA section 110(l)); and must not interfere with any applicable requirement concerning attainment, reasonable further progress (RFP), or any other applicable requirement of the Act (see CAA section 110(l)).²¹

²¹ CAA section 193, which prohibits any pre-1990 SIP control requirement relating to nonattainment pollutants in nonattainment areas from being modified unless the SIP is revised to ensure equivalent or greater emission reductions of such air pollutants, does not apply to these regulations or amendments because they are new regulations or amend regulations previously approved in the California SIP in 2016, and thus, do not constitute an amendment to a pre-1990 SIP control requirement.

B. Do the State regulations meet CAA SIP evaluation criteria?

1. Did the State provide adequate public notification and comment periods?

Under CAA sections 110(a)(2) and 110(l), SIP revisions must be adopted by the state, and the state must provide for reasonable public notice and hearing prior to adoption. In 40 CFR 51.102(d), we specify that reasonable public notice in this context refers to at least 30 days.

All the submitted regulations have gone through extensive public comment processes including CARB's workshop and hearing processes prior to CARB adoption, and CARB has provided documentation of these processes as part of CARB's July 3, 2021 SIP submission.

In addition, on June 19, 2015, CARB published a notice of public hearing to be held on July 23, 2015, to consider adoption and submission of certain adopted regulations, including the GHG-related provisions of the ACC I program, as a revision to the California SIP. CARB held the public hearing on July 23, 2015. No written comments were submitted to CARB in connection with the proposed SIP revision, and no public comments were made at the public hearing. At the July 23, 2015 Board Hearing, the CARB Board approved various mobile source regulations for which the EPA had issued waivers or authorizations or for which waiver or authorization requests were pending for inclusion in the SIP, with the specific portions of those regulations required for SIP submission to be determined by the CARB Executive Officer.²² Subsequently, the CARB Executive Officer submitted certain mobile source regulations to the EPA as attachments to a letter dated August 14, 2015, along with evidence of the public process conducted by CARB in approving the regulations for inclusion in the SIP.²³ CARB included public participation documentation from the earlier (August 14, 2015) SIP submission as part of July 3, 2021 SIP submission.

²² CARB Resolution 15-40, July 23, 2015.

²³ Letter dated August 14, 2015 from Richard W. Corey, Executive Officer, CARB, to Jared Blumenfeld, EPA Region IX Regional Administrator.

With respect to the 2018 amendments to the GHG-related provisions of the ACC I program, CARB posted notice on August 7, 2018, of a public hearing that was held on September 27-28, 2018, along with related material.²⁴ The notice provided six weeks for submission of written comments. The CARB Board adopted the amendments on September 28, 2018.²⁵ CARB finalized the rulemaking package, including responses to public comments on the amendments, in November 2018.²⁶

²⁴ CARB, Notice of Public Hearing to Consider Amendments to the Low-Emission Vehicle III Greenhouse Gas Emission Regulation, August 6, 2018.

²⁵ CARB Resolution 18-35, September 28, 2018.

²⁶ The final rulemaking package consisted of, among other things, CARB's “Final Statement of Reasons: Amendments to the Low-Emission Vehicle III Greenhouse Gas Emission Regulation, November 2018” (FSOR). Chapter IV of the FSOR provides the summary of comments and CARB responses.

As noted previously, the CARB Executive Officer did not include the GHG-related provisions of the ACC I program in the August 14, 2015 SIP submission, but he has included those provisions, along with the 2018 amendments, in the July 3, 2021 SIP submission that is the subject of this proposed action. The CARB Executive Officer submitted the 2012 and 2018 GHG-related provisions of the ACC I program to the EPA as a revision to the California SIP through CARB Executive Order S-21-010 (dated July 2, 2021).

Upon review of the public participation processes that CARB has undertaken and documented in the July 3, 2021, SIP submission, we conclude that CARB's July 3, 2021, SIP submission of the GHG-related portions of the ACC I program meets the applicable procedural requirements for SIP revisions under the CAA sections 110(a)(2) and 110(l) and 40 CFR 51.102.

2. Is the SIP revision appropriate for inclusion in the SIP?

CAA section 110(a)(1) requires that SIPs provide for the implementation, maintenance, and enforcement of the NAAQS. The types of air pollution and WTT emission benefits that have been identified by CARB as derived from its passenger vehicle GHG emission standards (within the ACC I program) have a connection to a number of NAAQS, including the PM and ozone NAAQS.²⁷ The State of California contains several nonattainment areas for several iterations of the PM and ozone NAAQS.²⁸ As explained previously, NOX is a precursor of both ozone and PM, and reductions in NOX emissions can therefore decrease the concentration of these criteria pollutants. The GHG emissions standards that we are proposing to approve into the State's SIP will decrease NOX emissions as well as direct PM emissions, which, along with other emission control measures in the SIP, will assist the State in achieving the emissions reductions needed to comply with the various nonattainment planning requirements of the CAA. As described previously, adoption of these GHG emissions standards is estimated to result in NOX emissions reductions of 51 tpy in 2023, 297 tpy in 2031, and 404 tpy in 2037. The corresponding estimated statewide emissions reductions of PM2.5 are 7 tpy in 2023, 52 tpy in 2031, and 72 tpy in 2037. We have reviewed these emission reduction estimates and find they are reasonable and adequately supported.²⁹ As such, we believe that inclusion of the GHG-portions of the ACC I program in the California SIP is appropriate under CAA section 110(a)(1).

²⁷ See CARB, Staff Report, Attachment B to Executive Order S-21-010 (“Emissions Benefits of California's Passenger Vehicle GHG Standards”), dated July 2, 2021.

²⁸ For example, the EPA has designated the Los Angeles-South Coast Air Basin as an Extreme nonattainment area for the 1-hour average ozone NAAQS and the 1997, 2008 and 2015 8-hour average ozone NAAQS, and the EPA has designated the San Joaquin Valley as a Serious nonattainment area for the 1997 24-hour and annual, 2006 24-hour and 2012 annual PM2.5 NAAQS. See, generally, 40 CFR 81.305.

²⁹ See Memorandum to Docket EPA-R09-OAR-2024-0370, “Evaluation of CARB's Criteria Pollutant Emissions Estimates from the Greenhouse Gas Related Provisions of the Advanced Clean Cars Program,” Jeffrey Buss, EPA Region 9, August 2, 2024.

3. Does the State have adequate legal authority to implement the regulations?

The California Legislature has granted CARB both general and specific authority under the California Health & Safety Code (H&SC) to adopt and implement these regulations. California H&SC sections 39600 (“Acts required”) and 39601 (“Adoption of regulation; Conformance to federal law”) confer on CARB the general authority and obligation to adopt regulations and measures necessary to execute CARB's powers and duties imposed by State law. California H&SC sections 43013(a) and 43018 provide broad authority to achieve the maximum feasible and cost-effective emission reductions from all mobile source categories.

As a general matter, as noted previously, the CAA assigns mobile source regulation to the EPA through title II of the Act and assigns, with certain exceptions, stationary source regulation to the states through title I of the Act. In so doing, the CAA preempts various types of state regulation of mobile sources as set forth in section 209(a) (preemption of state emissions standards for new motor vehicles and engines), section 209(e) (preemption of state emissions standards for new and in-use nonroad vehicles and engines), and section 211(c)(4)(A) (preemption of state fuel requirements for motor vehicles, i.e., other than California's motor vehicle fuel requirements for motor vehicle emission control—section 211(c)(4)(B)). For certain types of mobile source standards, the State of California may request a waiver (for motor vehicles) or authorization (for nonroad vehicles or engines) for standards relating to the control of emissions and accompanying enforcement procedures. See CAA sections 209(b) (new motor vehicles) and 209(e)(2) (most categories of new and in-use nonroad vehicles).

The mobile source regulations that are the subject of this proposed action were submitted by CARB under CAA section 209 with a request for waiver that the EPA ultimately granted. More specifically, the EPA granted the waiver for the GHG-related portions of the ACC I program in 2013,³⁰ withdrew the waiver in 2019,³¹ and reinstated the waiver in 2022.³²

³⁰ 78 FR 2111 (January 9, 2013).

³¹ 84 FR 51310 (September 27, 2019).

³² 87 FR 14332 (March 14, 2022).

Thus, the regulations proposed for approval in this action are covered by an EPA waiver of preemption under the requirements of section 209(b) of the CAA and thus are no longer preempted under section 209(a) of the CAA.

In addition, the EPA is unaware of any non-CAA legal obstacle to CARB's enforcement of the regulations and thus we conclude that the State has provided the necessary assurances that the State has adequate authority under State law to carry out the SIP revision (and is not prohibited by any provision of Federal or State law from carrying out such SIP) and thereby meets the requirements of CAA section 110(a)(2)(E) with respect to legal authority.

4. Are the regulations enforceable as required under CAA section 110(a)(2)?

We have evaluated the enforceability of the mobile source regulations included in the July 3, 2021 SIP submission with respect to applicability and exemptions; standard of conduct and compliance dates; sunset provisions; discretionary provisions; and test methods, recordkeeping and reporting,³³ and we have concluded for the reasons given in the following paragraphs that the regulations are enforceable for the purposes of CAA section 110(a)(2).

³³ These concepts are discussed in detail in an EPA memorandum from J. Craig Potter, EPA Assistant Administrator for Air and Radiation, et al., titled “Review of State Implementation Plans and Revisions for Enforceability and Legal Sufficiency,” dated September 23, 1987.

First, with respect to applicability, we find that the GHG-related provisions of the ACC I program are sufficiently clear as to which entities and which vehicles or engines are affected by the regulations. See, e.g., 13 CCR section 1961.3 (introduction section describing applicability and exemptions).

Second, we find that the regulations are sufficiently specific so that the entities affected by the regulations are fairly on notice as to what the requirements and related compliance dates are. For instance, see the GHG emission requirements in 13 CCR section 1961.3(a).

Third, none of the submitted regulations contain sunset provisions that automatically repeal the emissions limits by a given date or upon the occurrence of a particular event, such as the change in the designation of an area from nonattainment to attainment.

Fourth, a number of the regulations contain provisions that allow for discretion by CARB's Executive Officer. Such “director's discretion” provisions can undermine enforceability of a SIP regulation and thus may prevent full approval by the EPA. However, in the instances of “director's discretion” in the submitted regulations, the discretion that can be exercised by the CARB Executive Officer is reasonably limited under the terms of the regulations. For instance, under 13 CCR section 1961.3(a)(3), manufacturers with limited U.S. sales may request that the Executive Officer establish alternative fleet average CO2 standards that would apply instead of the standards that would otherwise apply under 13 CCR 1961.3(a)(1). However, the regulation includes specific limits on eligibility ³⁴ and requires a technology review, among other content requirements, as part of the application for an alternative standard.³⁵ With such constraints on discretion, the “director's discretion” contained in the regulations would not significantly undermine enforceability of the rules by citizens or the EPA.

³⁴ See 13 CCR section 1961.3(a)(3)(A) and (B).

³⁵ See 13 CCR section 1961.3(a)(3)(C) and (D).

Lastly, the regulations identify appropriate test methods and include adequate recordkeeping and reporting requirements sufficient to ensure compliance with the applicable requirements.³⁶

³⁶ These requirements are set forth in the test procedures incorporated by reference in the regulations and included in the SIP.

5. Do the regulations interfere with RFP and attainment or any other applicable requirement of the Act?

All the State's RFP, attainment, and maintenance plans rely to some extent on the emission reductions from CARB's mobile source program. In this instance, CARB has provided criteria air pollutant or precursor reduction estimates for the GHG-related provisions in the ACC I program as part of the July 3, 2021 SIP submission package. CARB's estimates show a net reduction in statewide NOX and PM2.5 emissions, taking into account the emissions reductions associated with avoided production and delivery of gasoline and the emissions increases associated with increased production of electricity and hydrogen to fuel ZEVs that can be part of manufacturers' demonstrations of compliance with the GHG standards.³⁷ Given the net reduction in criteria air pollutant or precursor emissions expected to result from the GHG-related portions of the ACC I program, we find that approving the mobile source regulations and amendments submitted on July 3, 2021, as a revision to the California SIP, along with other emission control measures in the SIP, will assist the State in achieving the emissions reductions needed to comply with the various nonattainment planning requirements of the CAA, such as RFP requirements and other requirements associated with attainment and maintenance plans for the NAAQS. Therefore, approval of the mobile source regulations and amendments submitted on July 3, 2021, would not interfere with RFP or attainment or any other applicable requirement of the CAA for the purposes of CAA section 110(l).

³⁷ CARB, Staff Report, Attachment B to Executive Order S-21-010 (“Emissions Benefits of California's Passenger Vehicle GHG Standards”), dated July 2, 2021, page 6.

6. Will the State have adequate personnel and funding for the regulations?

In its SIP revision submission dated August 14, 2015, CARB refers to the annual approval by the California Legislature of funding and staff resources for carrying out CAA-related responsibilities and notes that a large portion of CARB's budget has gone toward meeting CAA mandates.³⁸ CARB indicates that a majority of CARB's funding comes from dedicated fees collected from regulated emission sources and other sources such as vehicle registration fees and vehicles license plate fees and that these funds can only be used for air pollution control activities.³⁹ For the 2024-2025 budget cycle, CARB has over 1,100 positions and almost $560 million dedicated for the mobile source program developing and enforcing regulations.⁴⁰ Given the longstanding nature of CARB's mobile source program and its documented effectiveness at achieving significant reductions from mobile sources, we find that CARB has provided necessary assurances that the State has adequate personnel and funding to carry out the mobile source regulations and amendments submitted for approval on July 3, 2021.

³⁸ Letter from Richard W. Corey, Executive Officer, CARB, to Jared Blumenfeld, Regional Administrator, EPA Region IX, August 14, 2015.

³⁹ Id.

⁴⁰ California Department of Finance, 2024-25 State Budget, Department Report, 3900 State Air Resources Board, enacted June 26, 2024.

7. EPA's Evaluation Conclusion

Based on the discussion presented in the previous paragraphs, we are proposing to find that these regulations are consistent with relevant CAA requirements, EPA policies, and guidance.

C. Proposed Action and Public Comment

Under section 110(k)(3) of the CAA, and for the reasons given above, we are proposing to approve a SIP revision submitted by CARB on July 3, 2021, that includes certain California regulations and related test procedures that were adopted as part of California's Advanced Clean Cars I program and that establish standards and other requirements relating to the control of emissions of greenhouse gases from new passenger cars, light-duty trucks, and medium-duty vehicles. The standards and other requirements relate to 2017 and subsequent model-year passenger cars, light-duty trucks, and medium-duty vehicles. We are proposing to approve these regulations as part of the California SIP because our analysis indicates they fulfill all relevant CAA requirements. If finalized, approval of the regulations and related test procedures as part of the California SIP will make them federally enforceable. We will accept comments from the public on this proposal until November 12, 2024.

IV. Incorporation by Reference

In this rule, the EPA is proposing to include in a final EPA rule regulatory text that includes incorporation by reference. In accordance with requirements of 1 CFR 51.5, the EPA is proposing to incorporate by reference certain sections of title 13 of the California Code of Regulations that establish standards and other requirements relating to the control of emissions of greenhouse gases from new passenger cars, light-duty trucks, and medium-duty vehicles and the related test procedures, as described in section II of this preamble. The EPA has made, and will continue to make, these materials available through www.regulations.gov and at the EPA Region IX Office (please contact the person identified in the FOR FURTHER INFORMATION CONTACT section of this preamble for more information).

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this proposed action merely proposes to approve state law as meeting Federal requirements and does not impose additional requirements beyond those imposed by state law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of section 12(d) of the National Technology Transfer and Advancement Act of 1995 (15 U.S.C. 272 note) because application of those requirements would be inconsistent with the Act.

In addition, the SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

CARB did not evaluate EJ considerations as part of its SIP submission; the CAA and applicable implementing regulations neither prohibit nor require such an evaluation. The EPA did not perform an EJ analysis and did not consider EJ in this action. Due to the nature of the action being proposed here, this proposed action is expected to have a neutral to positive impact on the air quality of the affected area. Consideration of EJ is not required as part of this action, and there is no information in the record inconsistent with the stated goal of E.O. 12898 of achieving EJ for communities with EJ concerns.

List of Subjects in 40 CFR Part 52

Environmental protection, Air pollution control, Carbon monoxide, Incorporation by reference, Intergovernmental relations, Nitrogen dioxide, Ozone, Particulate matter, Reporting and recordkeeping requirements, Volatile organic compounds.

Dated: October 2, 2024.
Martha Guzman Aceves,
Regional Administrator, Region IX.

[FR Doc. 2024-23270 Filed 10-10-24; 8:45 am]

BILLING CODE 6560-50-P